DEPARTMENT OF AGRICULTURE

Office of the Secretary

Specialty Crop Committee Stakeholder Listening Sessions

AGENCY: Research, Education, and Economics, USDA.

ACTION: Notice of stakeholder listening sessions.

SUMMARY: In accordance with the Federal Advisory Committee Act, 5 U.S.C. App 2, the United States Department of Agriculture announces two stakeholder listening sessions of the Specialty Crop Committee, under the auspices of the National Agricultural Research, Extension, Education, and Economics Advisory Board.

DATES: The Specialty Crop Committee will hold two stakeholder listening sessions July 19, 2011 from 9 a.m.-12 noon and 3 p.m.-6 p.m.

ADDRESSES: The stakeholder listening sessions of the Specialty Crop Committee will take place on July 19, 2011, from 9 a.m.-12 p.m. at the Kellogg Hotel and Conference Center, Michigan, State University, 55 South Harrison Avenue, East Lansing, Michigan 48824, and on July 19, 2011, from 3-6 p.m. at the Amway Grand Plaza Hotel, 187 Monroe, NW., Grand Rapids, Michigan 49503.

The public may file written comments before or up to two weeks after the listening sessions with the contact person identified in this notice at: The National Agricultural Research, Extension, Education, and Economics Advisory Board Office, U.S. Department of Agriculture, Room 3901, South Building, 1400 Independence Avenue, SW., Washington, DC 20250-2255.

FOR FURTHER INFORMATION CONTACT: Rob Burk, Executive Director, National Agricultural Research, Extension, Education, and Economics Advisory Board; telephone: (202) 720-3684; fax: (202) 720-6199; or e-mail: robert.burk@ars.usda.gov.

SUPPLEMENTARY INFORMATION: The Specialty Crop Committee was established in accordance with the Specialty Crops Competitiveness Act of 2004 under Title III, Section 303 of Public Law 108-465. This Committee is a permanent committee of the National Agricultural Research, Extension, Education, and Economics Advisory Board (the Board). The Committee's charge is to study the scope and effectiveness of research, extension, and economics programs affecting the specialty crop industry. The congressional legislation defines “specialty crops” as fruits, vegetables, tree nuts, dried fruits and nursery crops (including floriculture). In order to carry out its responsibilities effectively, the Committee is holding these stakeholder listening sessions. The Committee seeks stakeholder input from industry and state representatives, national organizations and institutions, local producers, agricultural researchers and extension educators, and other groups interested in the issues with which the Specialty Crop Committee is charged. Comments on measures to improve the efficiency, productivity, profitability and economic stability of specialty crop producers; on regional or national data or information needed by the industry to evaluate its competitive position; and on measures designed to improve the competitiveness of research, extension and economics programs affecting the industry are particularly sought. The format will focus on several panel sessions, each relating to one or more specific issues delineated in the Committee's charge. Each panel will be followed with questions or comments by Committee members and from the floor. Opportunities for brief presentations and general discussion from the public participants will be provided.

Also, written comments by attendees and other interested stakeholders will be welcomed as additional public input before and up to two weeks following the listening sessions. All statements will become part of the official public record of the Board's Specialty Crop Committee.

Done at Washington, DC, this 8th day of June 2011.
Catherine Woteki,
Under Secretary, Research, Education, and Economics.

[FR Doc. 2011-17982 Filed 7-15-11; 8:45 am]

BILLING CODE 3410-03-P